CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of collection requirement on respondents can be properly assessed.

Currently, CNCS is soliciting comments concerning its proposed Senior Corps Foster Grand Parent pilot case study instrument. The study involves interviews and focus groups with FGP grantees, volunteers and stakeholder's to better understand their experiences implementing evidence based education models. The information will allow CNCS Senior Corps administrators to understand these processes as it considers broadening the use of evidence based national education models.

Copies of the information collection request can be obtained by contacting the office listed in the addresses section of this notice.

DATES: Written comments must be submitted to the individual and office listed in the ADDRESSES section by March 2, 2015.

ADDRESSES: You may submit comments, identified by the title of the information collection activity, by any of the following methods:

(1) By mail sent to: Corporation for National and Community Service, Senior Corps Program; Attention Anthony Nerino, Research Associate, Office #10913A; 1201 New York Avenue NW., Washington, DC 20525.

(2) By hand delivery or by courier to the CNCS mailroom at Room 6010 at the mail address given in paragraph (1) above, between 9:00 a.m. and 4:00 p.m. Eastern Time, Monday through Friday, except Federal holidays.

(3) Electronically through the Corporation's email system to anerino@cns.gov.

Individuals who use a telecommunications device for the deaf (TTY-TDD) may call 1-800-833-3722 between 8:00 a.m. and 8:00 p.m. Eastern Time, Monday through Friday.

FOR FURTHER INFORMATION CONTACT: Anthony Nerino, (202-606-3913), or by email at anerino@cns.gov.

SUPPLEMENTARY INFORMATION:

CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

CNCS has contracted with ICF international to implement case studies of selected FGP grantees that are implementing two similar national education models in various service sites. The case study instrument will involve interviews and focus groups with current and former FGP project administrators, staff including site supervisors and volunteer coordinators and volunteers at two sites implementing each of two different models—Jumpstart and Reading Partners.

The information is designed to allow CNCS Senior Corps administrators to understand the process and experiences of grantees as they implement national education models including member and beneficiary recruitment, member training, program structure and processes, program modifications specific to FGP, scope and reach of the various projects, and observed outcomes for members and beneficiaries.

Potential sites for inclusion in the study have been drawn from existing and former grantees implementing two national models, Jumpstart and Reading Partners.

Interview and focus group data will be collected via taped and written responses to telephone conversations.

Data analysis will focus on identifying and understanding factors associated the process (opportunity costs, benefits, obstacles and preparation) related to the decision to use a model approach to tutoring and educational interventions.

Current Action:

CNCS seeks public comment on a new data collection instrument developed for this project. The case study interview and focus group data collection instrument is being designed by the contractor for this project.

Type of Review: New.

Agency: Corporation for National and Community Service.

Title: Foster Grandparent Case Study.

OMB Number: None.

Agency Number: None.

Affected Public: Selected FGP grantees.

Total Respondents: Interviews 80—Focus Group Participants 60.

Frequency: One time.

Average Time Per Response: 60 to 90 minutes.

Respondent category | Number | Time (minutes) | Total hours
Focus Group Participants | 60 | 90 | 90
Interview Participants | 80 | 60 | 80

Estimated Total Burden Hours: 170.

Total Burden Cost (capital/startup): None.

Total Burden Cost (operating/maintenance): None.

Comments submitted in response to this notice will be summarized and/or included in the request for Office of Management and Budget approval of the information collection request; they will also become a matter of public record.

Dated: December 19, 2014.
Mary Hyde,
Office of Research and Evaluation.

[FR Doc. 2014-30340 Filed 12-29-14; 8:45 am]

BILLING CODE 6050-28-P